DEPARTMENT OF THE INTERIOR

Fish and Wildlife Service

[FWS-R1-R-2011-N180; 1265-0000-10137-S3]

Willapa National Wildlife Refuge, Pacific County, WA; Record of Decision for Final Environmental Impact Statement

AGENCY: Fish and Wildlife Service, Interior.

ACTION: Notice of availability.

SUMMARY: We, the U.S. Fish and Wildlife Service, announce the availability of the Willapa National Wildlife Refuge final comprehensive conservation plan (CCP) and record of decision (ROD). We completed a thorough analysis of the environmental, social, and economic considerations and presented it in our Final CCP and environmental impact statement (EIS), which we released to the public on August 12, 2011. The ROD documents our decision to implement Alternative 2, as it is described in the Final CCP/EIS.

DATES: The Regional Director, Pacific Region, U.S. Fish and Wildlife Service, signed the ROD on September 29, 2011. We plan to begin implementation of the CCP immediately.

ADDRESSES: You may view or request a copy of the CCP/ROD by the following methods:

Agency Web Site: Download the document at: http://www.fws.gov/willapa/CCP/.

Email: FW1PlanningComments@fws.gov. Include “Willapa NWR CCP/ROD” in the subject line of the message.

Mail: Willapa National Wildlife Refuge, 3888 SR 101, Ilwaco, WA 98624.

In person viewing: Willapa National Wildlife Refuge Complex, 3888 SR 101, Ilwaco, WA 98624.

Local Libraries: See SUPPLEMENTARY INFORMATION.

FOR FURTHER INFORMATION CONTACT: Charlie Stenvall, Project Leader, (360) 484-3482 (phone).

SUPPLEMENTARY INFORMATION:

Introduction

With this notice, we finalize the CCP process for the Refuge. We started this process through a notice of intent in the Federal Register on April 9, 2008 (73 FR 19238). We announced the availability of our draft and final documents in the Federal Register as well. Our Draft CCP/EIS was released on January 21, 2011 (76 FR 3922), and our Final CCP/EIS was released on August 12, 2011 (76 FR 50247).

The Refuge was established in 1937 to protect migrating and wintering populations of brant, waterfowl, shorebirds, and other migratory birds, and for conservation purposes. It encompasses over 16,000 acres of tidelands, temperate rainforest, ocean beaches, sand dunes, rivers, and small streams. Remnants of old growth coastal cedar forest and habitats for spawning wild salmon, migrating shorebirds, and threatened and endangered species, such as the western snowy plover and marbled murrelet, are preserved on the Refuge.

We evaluated three alternatives for managing the Refuge's resources in the Final CCP/EIS, identified Alternative 2 as our preferred alternative, and completed a thorough analysis of environmental, social, and economic considerations. The ROD documents our selection of Alternative 2 for implementation. Alternative 2 is the foundation of our CCP. The CCP will guide our management and administration of the Refuge for the next 15 years. In accordance with National Environmental Policy Act and its implementing regulations (40 CFR 1506.6(b)), this notice announces the availability of our CCP/ROD.

Background

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. We will review and update the CCP at least every 15 years in accordance with the Refuge Administration Act.

CCP Alternatives and Selected Alternative

We identified management issues in our Draft and Final CCP/EIS. To address these issues, we developed and evaluated three alternatives. Alternative 1 is our no-action alternative; under it, current Refuge management programs would continue. Under Alternative 2, our preferred alternative, current management would continue and a number of compatible improvements to our wildlife, habitat, biodiversity, and visitor services management activities would be implemented. Under Alternative 3, we would continue current Refuge management programs, and some improvements to wildlife, habitat, and visitor services management would occur, but to a lesser degree than under Alternative 2.

After considering public comments, we selected Alternative 2, as it is described in the Final CCP/EIS, for implementation. Alternative 2 will best achieve Refuge purposes, and contribute toward the mission of the National Wildlife Refuge System, consistent with the sound principles of fish and wildlife science and conservation, legal mandates, and Service policies. Current wildlife and habitat management will continue under Alternative 2, including maintaining freshwater wetlands on the Tarlatt Unit and implementing our forest management plan. The following improvements will be implemented over time.

• The Refuge's intensively managed pastures and impoundments will be restored to historic estuarine conditions, increasing open water, intertidal flats, and salt marsh habitats by 621 acres.

• Avian and mammalian predators on the Leadbetter Point Unit will be controlled as necessary, to help meet western snowy plover population recovery goals.

• We will manage 93 acres of short-grass fields as foraging habitat for Canada geese, elk, and other wildlife, on the Riekkola Unit. Grassland restoration will include establishing the early-blue violet host plant on 33 acres, which will serve the future reintroduction of the endangered Oregon silverspot butterfly.

• We will expand the approved Refuge acquisition boundary by 6,809 acres in the Nemah, Naselle, South Bay, and East Hills areas, and divest the Shoalwater and Wheaton Units (941 acres) from the Refuge.

• We will develop an interpretive trail and observation deck along the South Bay that will tie into our proposed Tarlatt Unit visitor/administrative facility.

• After the proposed estuarine restoration is completed, we will expand the waterfowl hunting area to 5,570 acres.

• We will provide an additional 100 acres, and develop three blinds for goose hunting, including a barrier-free blind. Two blinds for waterfowl hunting, including a barrier-free blind, will also be developed. Walk-in hunters will access the blinds on a first-come-first-served basis.

• We will develop a year-round cartop boat launch, parking area, and 0.6-mile Porter Point Trail, to access the South Bay.

• A special-permit elk hunt is planned on the Leadbetter Point Unit. Elk and deer hunting are proposed during State seasons on the South Bay and East Hills Units.

Public Availability of Documents

In addition to options listed under ADDRESSES, you can view our CCP/ROD at the following libraries.

• Ilwaco Timberland Library, 158 1st Ave. North, Ilwaco, WA 98624.

• South Bend Timberland Library, 1216 West 1st St., South Bend, WA 98586.

• Ocean Park Timberland Library, 1308 256th Place, Ocean Park, WA 98640.

• Astoria Public Library, 450 10th St., Astoria, OR 97103.

Dated: March 7, 2012.
Richard R. Hannan,
Acting Regional Director, Pacific Region, Portland, Oregon.

[FR Doc. 2012-6532 Filed 3-16-12; 8:45 am]

BILLING CODE 4310-55-P